OFFICE OF PERSONNEL MANAGEMENT

Submission for OMB Review; Comment Request for an Expiring Information Collection: SF-15

AGENCY: Office of Personnel Management.

ACTION: Notice.

SUMMARY: In accordance with the Paperwork Reduction Act of 1995 (Public Law 104-13, May 22, 1995), this notice announces that the Office of Personnel Management (OPM) has submitted to the Office of Management and Budget (OMB) a request for the continued use of Standard Form 15 (SF-15). SF 15, Application for 10-Point Veteran Preference, is used by agencies, OPM examining offices and agency appointing officials to adjudicate individuals' claims for veterans' preference in accordance with the Veterans' Preference Act of 1944.

According to the General Services Administration, 45,000 SF-15s were completed last year. Each form requires approximately 10 minutes to complete. The annual estimated burden is 7,497 hours.

We are asking OMB to approve the continuation of the current SF-15. In the 60 day notice published July 19, 2002, we announced our proposal to revise the SF-15 and we invited comments. We plan to submit the revision later and will address the comments at that time.

For copies of this proposal, contact Mary Beth Smith-Toomey at mbtoomey@opm.gov or fax to (202) 418-3251. Please be sure to include a mailing address with your request.

DATES: Comments on this proposal should be received within 30 calendar days from the date of this publication.

ADDRESSES: Send or deliver written comments to:

Ellen Tunstall, Assistant Director for Employment Policy, U.S. Office of Personnel Management, 1900 E Street, NW., Room 6500, Washington, DC 20415.

and

Stuart Shapiro, OPM Desk Officer, Office of Information & Regulatory Affairs, Office of Management and Budget, New Executive Office Building, NW., Room 10235, Washington, DC 20503.

U.S. Office of Personnel Management.
Kay Coles James,
Director.

[FR Doc. 03-110 Filed 1-3-03; 8:45 am]

BILLING CODE 6325-38-P